DEPARTMENT OF EDUCATION

[CFDA No. 84.215L]

Smaller Learning Communities Program

ACTION: Notice inviting applications for new awards for fiscal year (FY) 2001.

Purpose of Program: The Smaller Learning Communities program will support the planning, implementation or expansion of small, safe, and successful learning environments in large public high schools to help ensure that all students graduate with the knowledge and skills necessary to make successful transitions to college and careers. These grants are authorized by title X, part A, section 10105 of the Elementary and Secondary Education Act of 1965 (ESEA)(20 U.S.C. 8005).

Eligible Applicants: Local educational agencies (LEAs), applying on behalf of large high schools, or schools funded by the Bureau of Indian Affairs (BIA schools), are eligible to apply. For purposes of this program, a large high school is defined as a school that includes grades 11 and 12 and enrolls at least 1,000 students in grades 9 and above.

Applications Available: December 19, 2001.

Deadline for Transmittal of Applications: February 19, 2002.

Deadline for Intergovernmental Review: April 18, 2002.

Estimated Available Funds: $96,700,000.

Types and Ranges of Awards: The Secretary will award both planning grants and implementation grants under this notice. LEAs may apply on behalf of one or more eligible schools. For a one-year planning grant, an LEA may receive, on behalf of a single school, $25,000 to $50,000 per project. LEAs applying on behalf of a group of eligible schools may receive funds up to $250,000 per planning grant. For a three-year implementation grant, an LEA may receive, on behalf of a single school, $250,000 to $500,000 per project. LEAs applying on behalf of a group of eligible schools may receive funds up to $2,500,000 per implementation grant. LEAs may submit multiple applications targeting up to ten distinct schools under a single application. However, an LEA may not apply on behalf of an eligible high school in more than one application.

Schools that benefited from FY 2000 implementation awards are not eligible to receive additional implementation support under this competition. Schools that benefited from FY 2000 planning awards are not eligible to receive additional planning support under this competition, but may apply for an implementation grant. The total amount an LEA may receive through any combination of awards, in any fiscal year of this program, may not exceed $5 million.

Note: The size of awards will be based on a number of factors. These factors include the scope, quality, and comprehensiveness of the proposed program; the size of the population to be served; and the recommended range of awards indicated in the application.

Estimated Number of Awards: The Secretary anticipates making approximately 190 new planning grant awards and approximately 90 new implementation awards under this competition.

Note: The Department of Education is not bound by any estimates in this notice.

Project Period: Planning grants will fund activities up to 12 months. Implementation grants will fund activities up to 36 months.

Note: Applicants for multi-year awards must provide detailed, yearly budget information for the total grant period requested. Understanding the unique complexities of implementing a program that affects a school's organization, physical design, curriculum, instruction, and preparation of teachers, the Secretary anticipates awarding the entire grant amount for implementation projects at the time of the initial award. This will provide the applicant with the capacity to effectively carry out the comprehensive long-term activities involved in model development, documentation, evaluation, and dissemination of products and practices developed through the federal grant. Uninterrupted access to funds will depend upon a grantee's close adherence to its yearly budget projections as well as submission of an annual performance report, showing adequate progress, during the three-year period of the grant.

Applicable Regulations: (a) The Education Department General Administrative Regulations (EDGAR) in 34 CFR parts 75, 77, 79, 80, 81, 82, 85, 86, 97, 98, and 99; and (b) the regulations in the notice of final priorities, application requirements, and selection criteria for FY 2001 as published elsewhere in this issue of the Federal Register.

Competitive Priority—Low-Performing Schools

This competition gives a competitive priority to projects that meet the priority in the Notice of the Final Priorities for this program, which is published elsewhere in this issue of the Federal Register.

FOR FURTHER INFORMATION CONTACT: For information on the program and to download an application, you may access the SLC program web site at www.ed.gov/offices/OESE/SLCP/. If you have questions pertaining to the application, you may send an email to smallerlearningcommunities@ed.gov. If you need further assistance and need to speak with someone in the SLC program, you may contact Andrew Abrams, (202) 260-7430, 330 C Street, SW, MES Bldg., Room 5512, Washington, DC 20202. You may also contact Diane Austin (202) 260-1280, 400 Maryland Ave., SW, Room 5C149, Washington, DC 20202-6200. Requests for applications may also be sent by fax to (202) 260-8969.

Individuals who use a telecommunications device for the deaf (TDD) may call the Federal Information Relay Service (FIRS) at 1-800-877-8339. Individuals with disabilities may obtain this notice in an alternative format (e.g., Braille, large print, audiotape, or computer diskette) on request to one of the contact persons listed in the preceding paragraph.

Electronic Access to This Document

You may view this document, as well as all other Department of Education documents published in the Federal Register, in text or Adobe Portable Document Format (PDF) on the Internet at the following site: www.ed.gov/legislation/FedRegister

To use PDF you must have Adobe Acrobat Reader, which is available free at this site. If you have any questions about using PDF, call the U.S. Government Printing Office (GPO); toll free, at 1-888-293-6498; or in the Washington, DC, area at (202) 512-1530.

Note: The official version of this document is the document published in the Federal Register. Free Internet access to the official edition of the Federal Register and the Code of Federal Regulations is available on GPO Access at: http://www.access.gpo.gov/nara/index.html

Program Authority: 20 U.S.C. 8005.

Dated: December 14, 2001.
Susan B. Neuman,
Assistant Secretary for Elementary and Secondary Education.
Carol D'Amico,
Assistant Secretary for Vocational and Adult Education.

[FR Doc. 01-31274 Filed 12-18-01; 8:45 am]

BILLING CODE 4000-01-U